DEPARTMENT OF ENERGY

Federal Energy Regulatory Commission

[Docket Nos. EL16-6-001, ER16-121-000]

PJM Interconnection, L.L.C.; Notice of Technical Conference

By order dated December 28, 2015,¹ the Commission directed its staff to convene a technical conference in this proceeding, based on its finding that the issues raised by PJM Interconnection, L.L.C. (PJM) in its filing, regarding the allocation of Auction Revenue Rights (ARR) and Financial Transmission Rights (FTR), required the development of a more complete record. As directed by the December 28 Order, the technical conference will focus on whether PJM's existing ARR/FTR tariff provisions are unjust and unreasonable and whether PJM's proposed revisions to its tariff addressing these matters are just and reasonable. As further specified by the Commission, issues to be addressed at the technical conference will include, but are not limited to: (i) PJM's ARR modeling and allocation processes; (ii) treatment of portfolio positions in allocating underfunding or surplus among FTR holders and the potential for market manipulation; and (iii) balancing congestion in ARR/FTR product design.

¹ PJM Interconnection, L.L.C., 153 FERC ¶ 61,344 (2015) (December 28 Order).

Take notice that the technical conference will be held on February 4, 2016, in the Commission Meeting Room, at 888 First Street NE., Washington, DC 20426, between 9:30 a.m. and 5:00 p.m. (Eastern Standard Time).² The Chairman and Commissioners may attend and participate in the technical conference.

² If the technical conference cannot be held on February 4, 2016 due to unavoidable circumstances, including inclement weather, February 9, 2016 is reserved as the back-up date.

The technical conference will be led by Commission staff. All interested participants are invited to attend, and participants who wish to contribute are invited to nominate themselves to speak at the conference by contacting a member of the staff listed below and submitting a speaker nomination form.³ Due to time constraints, we may not be able to accommodate all those interested in speaking. Further details and a formal agenda will be issued prior to the technical conference. The technical conference will be open for the public to attend. Advanced registration is not required, but we encourage those planning to attend the conference to register through the Commission's Web site.⁴ We will provide nametags for those who register on or before January 28, 2016. Attendees should allow time to pass through building security procedures before the 9:30 a.m. (EST) start time of the technical conference.

³ The speaker nomination form is located at https://www.ferc.gov/whats-new/registration/02-04-16-speaker-form.asp.

⁴ The registration form is located at https://www.ferc.gov/whats-new/registration/02-04-16-form.asp.

Information regarding the technical conference will be posted on the Calendar of Events on the Commission's Web site, prior to the event.⁵ The technical conference will also be webcast, via the Calendar of Events, and transcribed. Transcripts will be available for a fee from Ace-Federal Reports, Inc.⁶ The webcast will remain available on the Commission's Web site for three months following the technical conference. The Capitol Connection provides technical support for the webcast and offers the option of listening to the technical conference via phone-bridge for a fee.⁷ The webcast will allow persons to listen to the technical conference, but not participate.

⁵ The FERC Calendar of Events site may be accessed at: www.ferc.gov/EventCalendar/EventsList.aspx?View=monthview.

⁶ The Web site for ACE-Federal Reports, Inc. is www.acefederal.com and the phone number is 202-347-3700.

⁷ If you have any questions, visit Capitol Connection's Web site at www.CapitolConnection.org, or call 703-993-3100.

Commission conferences are accessible under section 508 of the Rehabilitation Act of 1973. For accessibility accommodations please send an email to accessibility@ferc.gov or call toll free 1-866-208-3372 (voice) or 202-502-8659 (TTY); or send a fax to 202-208-2106 with the required accommodations.

For more information about this technical conference, please contact:

Sarah McKinley (Logistical Information), Office of External Affairs, Federal Energy Regulatory Commission, 888 First Street NE., Washington, DC 20426, (202) 502-8004, Sarah.McKinley@ferc.gov

Pamela Quinlan (Technical Information), Office of Energy Market Regulation, Federal Energy Regulatory Commission, 888 First Street NE., Washington, DC 20426, (202) 502-6179, Pamela.Quinlan@ferc.gov

Kent Carter (Legal Information), Office of General Counsel, Federal Energy Regulatory Commission, 888 First Street NE., Washington, DC 20426, (202) 502-8604, Kent.Carter@ferc.gov

Daniel Kheloussi (Technical Information), Office of Energy Policy and Innovation, Federal Energy Regulatory Commission, 888 First Street NE., Washington, DC 20426, (202) 502-6391, Daniel.Kheloussi@ferc.gov

Dated: January 13, 2016.
Nathaniel J. Davis, Sr.,
Deputy Secretary.

[FR Doc. 2016-00968 Filed 1-19-16; 8:45 am]

BILLING CODE 6717-01-P